DEPARTMENT OF JUSTICE

Office of Justice Programs

[OJP(OJP)-1346C]

The Serious and Violent Offender Reentry Initiative

AGENCY: Office of Justice Programs (OJP), Justice (DOJ) in partnership with Department of Health and Human Services (HHS), Department of Labor (DOL), Department of Education (ED), Department of Housing and Urban Development (HUD), and National Institute of Corrections (NIC), an agency of DOJ.

ACTION: Correction to notice of funding availability.

SUMMARY: This document provides the corrected information regarding how applications are to be submitted for the Serious and Violent Offender Reentry Initiative, which was first published in the Federal Register on January 30, 2002 at 67 FR 4645. Applications for this Initiative will only be accepted online using the U.S. Department of Justice, Office of Justice Programs' Grant Management System (GMS). Directions for applying online are included in the solicitation. For applicants without internet access, OJP encourages the use of public library terminals and access provided by copy centers and similar businesses.

FOR FURTHER INFORMATION CONTACT: The U.S. Department of Justice Response Center at 1-800-421-6770 or visit the Reentry Web site at http://www.ojp.usdoj.gov/reentry/funding.htm.

SUPPLEMENTARY INFORMATION: The Serious and Violent Offender Reentry Initiative is a collaborative and comprehensive grant program designed to address the issues related to serious, high-risk offenders (adults and juveniles) who are to be released and who have been released from correctional facilities and are returning to communities nationwide. The program aims to reduce recidivism by these returning offenders and thereby, enhance community safety.

Dated: February 12, 2002.
Deborah J. Daniels,
Assistant Attorney General, Office of Justice Programs.

[FR Doc. 02-3785 Filed 2-14-02; 8:45 am]

BILLING CODE 4410-18-P